DEPARTMENT OF DEFENSE

Office of the Secretary

[Transmittal No. 21-52]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-52 with attached Policy Justification and Sensitivity of Technology.

Dated: March 29, 2023.
Aaron T. Siegel,
Alternate OSD Federal Register Liaison Officer, Department of Defense.

BILLING CODE 5001-06-P

BILLING CODE 5001-06-C

Transmittal No. 21-52

Notice of Proposed Issuance of Letter of Offer Pursuant to Section 36(b)(1) of the Arms Export Control Act, as amended

(i) Prospective Purchaser: Government of Israel

(ii) Total Estimated Value:

Major Defense Equipment * | $ 2.4 billion
Other | $ 1.0 billion
TOTAL | $ 3.4 billion

Funding Source: Foreign Military Financing (FMF)

(iii) Description and Quantity or Quantities of Articles or Services under Consideration for Purchase:

Major Defense Equipment (MDE):

Up to Eighteen (18) CH-53K Heavy Lift Helicopters

Up to Sixty (60) T408-GE-400 Engines (54 installed, 6 spares)

Up to Thirty-six (36) Embedded Global Positioning System/Inertial Navigation Systems (EGI) with Selective Availability/Anti-Spoofing Module (SAASM)

Non-MDE:

Also included is communication equipment; GAU-21 .50 caliber Machine Guns; Mission Planning System; facilities study, design and construction; spare and repair parts; support and test equipment; publications and technical documentation; aircrew and maintenance training; U.S. Government and contractor engineering, technical, and logistics support services; and other related elements of logistics and program support.

(iv) Military Department: Navy (IS-P-SCN)

(v) Prior Related Cases, if any: None

(vi) Sales Commission, Fee, etc., Paid, Offered, or Agreed to be Paid: None

(vii) Sensitivity of Technology Contained in the Defense Article or Defense Services Proposed to be Sold: See Annex Attached

(viii) Date Report Delivered to Congress: July 30, 2021

*As defined in Section 47(6) of the Arms Export Control Act.

POLICY JUSTIFICATION

Israel—CH-53K Heavy Lift Helicopters with Support

The Government of Israel has requested to buy up to eighteen (18) CH-53K Heavy Lift Helicopters; up to sixty (60) T408-GE-400 Engines (54 installed, 6 spares); and up to thirty-six (36) Embedded Global Positioning System/Inertial Navigation Systems (EGI) with Selective Availability/Anti-Spoofing Module (SAASM). Also included is communication equipment; GAU-21 .50 caliber Machine Guns; Mission Planning System; facilities study, design and construction; spare and repair parts; support and test equipment; publications and technical documentation; aircrew and maintenance training; U.S. Government and contractor engineering, technical, and logistics support services; and other related elements of logistics and program support. The total estimated cost is $3.4 billion.

The United States is committed to the security of Israel, and it is vital to U.S. national interests to assist Israel to develop and maintain a strong and ready self-defense capability. This proposed sale is consistent with those objectives.

The proposed sale will improve the Israeli Air Force's capability to transport armored vehicles, personnel, and equipment to support distributed operations deep inland from a sea-based center of operations. Israel will use the enhanced capability as a deterrent to regional threats and to strengthen its homeland defense. Israel will have no difficulty absorbing this equipment into its armed forces.

The proposed sale of this equipment and support will not alter the basic military balance in the region.

The prime contractors will be Lockheed Martin Global, Inc., Shelton, Connecticut; and General Electric Company, Lynn, Massachusetts. There are no known offset agreements proposed in connection with this potential sale. Any offset agreements will be defined in negotiations between the purchaser and the contractor(s).

Implementation of this proposed sale will require multiple trips by U.S. Government and contractor representatives to participate in program and technical reviews. It will also require approximately four (4) contractor support representatives to reside in country for a period of three (3) years to support this program.

There will be no adverse impact on U.S. defense readiness as a result of this proposed sale.

Transmittal No. 21-52

Notice of Proposed Issuance of Letter of Offer Pursuant to Section 36(b)(1) of the Arms Export Control Act

Annex

Item No. vii

(vii) Sensitivity of Technology:

1. The CH-53K Heavy Lift Helicopter focuses primarily on the transport of armored vehicles, personnel, and equipment to support distributed operations deep inland from a sea-based center of operations. The CH-53K carries several sensors and data links to enhance its ability to operate in hostile environments and in coordination with group forces. The aircraft is night vision compatible. The sensitive technologies include:

a. Communications security devices contain sensitive encryption algorithms and keying material. The purchasing country has previously been released and utilizes COMSEC devices in accordance with set procedures and without issue.

b. Identification Friend or Foe (IFF) (KIV-78) contains embedded security devices containing sensitive encryption algorithms and keying material. The purchasing country will utilize COMSEC devices in accordance with set procedures.

c. GPS PPS/SAASM/MGUE/ADAP—Global Positioning System (GPS) Precise Positioning Service (PPS) provides space-based Global Navigation Satellite System (GNSS) signals that have reliable location and time information in all weather, at all times, and anywhere on or near the earth when and where there is an unobstructed line of sight to four or more GPS satellites. The Selective Availability/Anti-Spoofing Module (SAASM) and Modernized GPS User Equipment (MGUE) are used as military embedded GPS receivers (EGRs) to provide for decryption and use of the GPS PPS by the Embedded GPS/Inertial Navigation System (EGI). In addition, the Advanced Digital Antenna Production (ADAP) GPS anti-jam protection system provides electronic protection from enemy countermeasures to disrupt and jam GPS signals. The combination of the EGI and the ADAP provide for robust positioning, navigation, and timing (PNT) capability.

2. All the mission data, including sensitive parameters, is loaded from an off board station before each flight and does not stay with the aircraft after electrical power has been removed. Sensitive technologies are protected as defined in the program protection and anti-tamper plans.

3. The highest level of classification of defense articles, components, and services included in this potential sale is SECRET.

4. If a technologically advanced adversary were to obtain knowledge of the specific hardware or software elements, the information could be used to develop countermeasures that might reduce weapon system effectiveness or be used in the development of a system with similar or advanced capabilities.

5. A determination has been made that Israel can provide substantially the same degree of protection for the sensitive technology being released as the U.S. Government. This proposed sale is necessary in furtherance of the U.S. foreign policy and national security objectives outlined in the Policy Justification.

6. All defense articles and services listed in this transmittal are authorized for release and export to the Government of Israel.

[FR Doc. 2023-06846 Filed 3-31-23; 8:45 am]

BILLING CODE 5001-06-P